DEPARTMENT OF JUSTICE

Notice of Lodging of Proposed Consent Decree Under the Clean Water Act

Notice is hereby given that on September 27, 2010, a Consent Decree in United States of America, et al. v. Bristol Township, Civil Action No. 10-5049, was lodged with the United States District Court for the Eastern District of Pennsylvania. The United States and the Commonwealth of Pennsylvania also filed claims pursuant to the Clean Water Act, 33 U.S.C. 1251 et seq, and the Pennsylvania Clean Streams Law, 35 P.S. §§ 691.1 et seq. The proposed Consent Decree relates to the operation of the publicly owned treatment works in Bristol Township, and obligates the Township to implement a series of immediate reforms, repairs and upgrades to more accurately assess the function of its collection system. With these tools, the consent decree requires the Township to perform a wide variety of short-, medium, and long-term studies to assess what additional capital improvements will be required. Once these studies are reviewed and approved by EPA and the Pennsylvania Department of Environmental Protection (PADEP), the consent decree requires that the capital improvements be completed in accordance with schedules that it establishes. The consent decree, which resolves the claims brought by the State and Federal plaintiffs, also obligates the Township to pay a civil penalty of $226,000 and establishes a sliding scale of stipulated penalties in case Bristol does not come into compliance with the conditions of its permit.

The Department of Justice will receive for a period of thirty (30) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to Unitd States, et al. v. Bristol Township, Civil Action No. 10-5049, DOJ # 90-5-1-1-09460.

The proposed Consent Decree may be examined at the Office of the United States Attorney for the Eastern District of Pennsylvania, 615 Chestnut Street, Suite 1250, Philadelphia, PA 19016. The consent decree also may be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 16.75 (25 cents per page reproduction cost for a full copy) payable to the U.S. Treasury.

Maureen Katz, Assistant Chief
Environmental Enforcement Section, Environment and Natural Resources Division.

[FR Doc. 2010-28108 Filed 11-5-10; 8:45 am]

BILLING CODE 4410-15-P